NATIONAL AERONAUTICS AND SPACE ADMINISTRATION

[Notice (02-020)]

NASA Advisory Council (NAC), Space Science Advisory Committee (SScAC), Solar System Exploration Subcommittee (SSES) Meeting

AGENCY: National Aeronautics and Space Administration.

ACTION: Notice of meeting.

SUMMARY: In accordance with the Federal Advisory Committee Act, Pub. L. 92-463, as amended, the National Aeronautics and Space Administration announces a forthcoming meeting of the NASA Advisory Council, Space Science Advisory Committee, Astronomical Search for Origins Planetary Systems Subcommittee.

DATES: Wednesday, February 27, 2002, 8:30 a.m. to 5:30 p.m., Thursday, February 28, 2002, 8:30 a.m. to 5:30 p.m., Friday, March 1, 2002, 8:30 a.m. to 5:30 p.m.

ADDRESSES: Holiday Inn Capitol, Columbia II Meeting Room, 500 C Street, SW, Washington, DC 20546.

FOR FURTHER INFORMATION CONTACT: Ms. Marian Norris, Code SB, National Aeronautics and Space Administration, Washington, DC 20546, (202) 358-4452.

SUPPLEMENTARY INFORMATION: The meeting will be open to the public up to the capacity of the room. The agenda for the meeting includes the following topics:

—Solar System Program Update

—Space Science Update

—Mars Program

—Outer Planets Program

—Inner Planets Program

—Technology Issues

—in Space Propulsion

• In-Space Power

• Delta II Launch Vehicle Availability

—Research and Analysis and Data Analysis

—Roadmap

It is imperative that the meeting be held on these dates to accommodate the scheduling priorities of the key participants. Visitors will be requested to sign a visitor's register.

Sylvia K. Kraemer,
Advisory Committee Management Officer, National Aeronautics and Space Administration.

[FR Doc. 02-3392 Filed 2-12-02; 8:45 am]

BILLING CODE 7510-01-P